DEPARTMENT OF THE INTERIOR

Bureau of Safety and Environmental Enforcement

[BOEM-2021-0043]

Programmatic Environmental Impact Statement for Oil and Gas Decommissioning Activities on the Pacific Outer Continental Shelf, Reopening Comment Period

AGENCY: Bureau of Safety and Environmental Enforcement (BSEE), Interior.

ACTION: Notice of Intent (NOI); reopening of public comment period.

SUMMARY: BSEE is reopening the public comment period on scoping in the NOI for the Programmatic Environmental Impact Statement (PEIS) for Oil and Gas Decommissioning Activities on the Pacific Outer Continental Shelf (OCS).

DATES: The NOI for the PEIS was published on July 23, 2021, initiating a public comment period which closed on September 7, 2021. BSEE is reopening this public comment period until October 15, 2021.

ADDRESSES: You may submit comments in writing or through www.regulations.gov. Written comments may be delivered by hand or by mail, enclosed in an envelope labeled, “Pacific Decommissioning” and addressed to Richard Yarde, Regional Supervisor, Office of Environment, BOEM Pacific Region, 760 Paseo Camarillo, Suite 102, Camarillo, CA 93010. Comments may also be submitted online through the regulations.gov web portal: Navigate to http://www.regulations.gov and search for Docket No. BOEM-2021-0043. Click on the “Comment Now!” button to the right of the document link. Enter your information and comment, then click “Submit.”

FOR FURTHER INFORMATION CONTACT: For information on the PEIS, contact Richard Yarde, Regional Supervisor, Office of Environment, at richard.yarde@boem.gov or 805-384-6379.

Individuals who use telecommunication devices for the deaf (TDD) may call the Federal Information Relay Service (FIRS) at 800-877-8339 between 8 a.m. and 8 p.m., Eastern Time, Monday through Friday.

SUPPLEMENTARY INFORMATION: On July 23, 2021, BSEE published a notice in the Federal Register [86 FR 39055] that provided a 45-day public comment period on the NOI for the PEIS for Oil and Gas Decommissioning Activities on the Pacific OCS. The comment period closed on September 7, 2021. BSEE received requests to extend the comment deadline and is reopening the public comment period to allow time for review and comment on the NOI until October 15, 2021. Comments must now be received by October 15, 2021.

Scott Mabry,
Acting Director, Bureau of Safety and Environmental Enforcement, Associate Director for Administration.

[FR Doc. 2021-20588 Filed 9-22-21; 8:45 am]

BILLING CODE 4310-VH-P